DEPARTMENT OF ENERGY

Federal Energy Regulatory Commission

Combined Notice of Filings #1

Take notice that the Commission received the following electric corporate filings:

Docket Numbers: EC19-27-000; EC20-94-000.

Applicants: IIF US Holding LP, IIF US Holding 2 LP, IIF US Holding LP, IIF US Holding 2 LP.

Description: Informational Filing of November 16, 2018 and August 31, 2020 Application for Authorization Under Section 203 of the Federal Power Act of IIF US Holding LP, et al.

Filed Date: 5/3/22.

Accession Number: 20220503-5217.

Comment Date: 5 p.m. ET 5/24/22.

Take notice that the Commission received the following exempt wholesale generator filings:

Docket Numbers: EG22-110-000.

Applicants: Arnold & Arnold LLP.

Description: SJRR Power LLC submits Notice of Self-Certification of Exempt Wholesale Generator Status.

Filed Date: 5/4/22.

Accession Number: 20220504-5164.

Comment Date: 5 p.m. ET 5/25/22.

Docket Numbers: EG22-111-000.

Applicants: Arnold & Arnold LLP.

Description: Victoria Port Power II LLC submits Notice of Self-Certification of Exempt Wholesale Generator Status.

Filed Date: 5/4/22.

Accession Number: 20220504-5166.

Comment Date: 5 p.m. ET 5/25/22.

Docket Numbers: EG22-112-000.

Applicants: Yaphank Fuel Cell Park, LLC.

Description: Notice of Self-Certification of Exempt Wholesale Generator Status of Yaphank Fuel Cell Park, LLC.

Filed Date: 5/5/22.

Accession Number: 20220505-5049.

Comment Date: 5 p.m. ET 5/26/22.

Take notice that the Commission received the following electric rate filings:

Docket Numbers: ER10-1575-016; ER10-1827-009; ER10-2630-004; ER10-2791-018; ER10-2792-018; ER10-2876-018; ER10-3230-012; ER10-3237-012; ER10-3239-012; ER10-3240-012; ER10-3253-012; ER11-4111-003; ER13-1248-002; ER13-1485-012; ER12-1777-001; ER15-2722-008; ER18-552-004; ER18-1310-003; ER18-2264-008; ER19-289-007; ER19-461-003; ER19-2462-005; ER21-684-001

Applicants: Wheelabrator South Broward Inc., Macquarie Energy LLC, Wheelabrator Concord Company, L.P., Cleco Cajun LLC, Macquarie Energy Trading LLC, Wheelabrator Millbury Inc., Clean Energy Future-Lordstown, LLC, Wheelabrator Saugus Inc., The Dayton Power and Light Company, Wheelabrator Baltimore, L.P., Patua Project LLC, Hudson Ranch Power I LLC, Wheelabrator Bridgeport, L.P., Wheelabrator North Andover Inc., Wheelabrator Westchester L.P., Wheelabrator Frackville Energy Company Inc., Wheelabrator Portsmouth Inc., Louisiana Generating LLC, Big Cajun I Peaking Power LLC, Bayou Cove Peaking Power LLC, NGP Blue Mountain I LLC, Cleco Power LLC, Cottonwood Energy Company, LP.

Description: Notice of Change in Status of Cottonwood Energy Company, LP, et al.

Filed Date: 5/2/22.

Accession Number: 20220502-5402.

Comment Date: 5 p.m. ET 5/23/22.

Docket Numbers: ER15-1332-009; ER17-1314-004; ER10-2397-004; ER10-2398-011; ER10-2399-011; ER10-2400-016; ER10-2401-010; ER10-2402-009; ER11-3414-010; ER19-1280-004; ER10-2403-010; ER20-2717-002; ER17-2541-002; ER10-2423-010; ER10-2404-010; ER14-1933-011; ER20-2714-002; ER10-2405-012; ER10-2406-012; ER17-2087-007; ER21-714-005; ER16-1152-005; ER19-1281-004; ER14-1594-004; ER14-1596-004; ER10-2407-009; ER10-2408-007; ER22-399-001; ER10-2409-011; ER10-2410-011; ER10-2411-012; ER10-2412-012; ER17-1315-009; ER18-1189-006; ER10-2414-015; ER11-2935-013; ER16-1724-008; ER19-1282-004; ER10-2425-011; ER18-1188-005; ER17-1316-007; ER10-2424-009; ER17-1318-006; ER14-1934-005; ER14-1935-005; ER15-1020-003; ER20-2746-003; ER19-2626-004; ER10-2426-003; ER20-245-002; ER20-242-002; ER13-1816-016; ER19-1044-005; ER18-1186-006; ER15-1333-009; ER10-2428-004; ER20-246-002.

Applicants: Windhub Solar A, LLC, Wheat Field Wind Power Project LLC, Waverly Wind Farm LLC, Turtle Creek Wind Farm LLC, Telocaset Wind Power Partners, LLC, Sustaining Power Solutions LLC, Sunshine Valley Solar, LLC, Sun Streams, LLC, Sagebrush Power Partners, LLC, Rosewater Wind Farm LLC, Riverstart Solar Park LLC, Rising Tree Wind Farm III LLC, Rising Tree Wind Farm II LLC, Rising Tree Wind Farm LLC, Redbed Plains Wind Farm LLC, Rail Splitter Wind Farm, LLC, Quilt Block Wind Farm LLC, Prairie Queen Wind Farm LLC, Pioneer Prairie Wind Farm I, LLC, Paulding Wind Farm IV LLC, Paulding Wind Farm III LLC, Paulding Wind Farm II LLC, Old Trail Wind Farm, LLC, Meadow Lake Wind Farm VI LLC, Meadow Lake Wind Farm V LLC, Meadow Lake Wind Farm IV LLC, Meadow Lake Wind Farm III LLC, Meadow Lake Wind Farm II LLC, Meadow Lake Wind Farm LLC, Meadow Lake Solar Park LLC, Marble River, LLC, Lost Lakes Wind Farm LLC, Lone Valley Solar Park II LLC, Lone Valley Solar Park I LLC, Lexington Chenoa Wind Farm LLC, Jericho Rise Wind Farm LLC, Indiana Crossroads Wind Farm LLC, Hog Creek Wind Project, LLC, High Trail Wind Farm, LLC, High Prairie Wind Farm II, LLC, Headwaters Wind Farm II LLC, Headwaters Wind Farm LLC, Flat Rock Windpower II LLC, Flat Rock Windpower LLC, Estill Solar I, LLC, Crossing Trails Wind Power Project LLC, Cloud County Wind Farm, LLC, Broadlands Wind Farm LLC, Blue Canyon Windpower VI LLC, Blue Canyon Windpower V LLC, Blue Canyon Windpower II LLC, Blue Canyon Windpower LLC, Blackstone Wind Farm II LLC, Blackstone Wind Farm, LLC, Arlington Wind Power Project LLC, Arkwright Summit Wind Farm LLC, Arbuckle Mountain Wind Farm LLC.

Description: Notice of Change in Status of Arbuckle Mountain Wind Farm LLC, et al.

Filed Date: 5/2/22.

Accession Number: 20220502-5400.

Comment Date: 5 p.m. ET 5/23/22.

Docket Numbers: ER22-1432-001.

Applicants: Arizona Public Service Company.

Description: Tariff Amendment: Amendment 1—Time Zone Modifications to be effective 5/23/2022.

Filed Date: 5/5/22.

Accession Number: 20220505-5124.

Comment Date: 5 p.m. ET 5/26/22.

Docket Numbers: ER22-1554-000.

Applicants: Ford County Wind Farm LLC.

Description: Supplement to April 4, 2022 Ford County Wind Farm LLC tariff filing.

Filed Date: 5/4/22.

Accession Number: 20220504-5159.

Comment Date: 5 p.m. ET 5/16/22.

Docket Numbers: ER22-1797-000.

Applicants: Southwest Power Pool, Inc.

Description: § 205(d) Rate Filing: 3718 Frontier Windpower II GIA Cancellation to be effective 4/20/2022.

Filed Date: 5/5/22.

Accession Number: 20220505-5060.

Comment Date: 5 p.m. ET 5/26/22.

Docket Numbers: ER22-1798-000.

Applicants: PJM Interconnection, L.L.C.

Description: § 205(d) Rate Filing: Original NSA, Service Agreement No. 6456; Queue No. AE1-196 to be effective 4/5/2022.

Filed Date: 5/5/22.

Accession Number: 20220505-5132.

Comment Date: 5 p.m. ET 5/26/22.

Docket Numbers: ER22-1799-000.

Applicants: PJM Interconnection, L.L.C.

Description: § 205(d) Rate Filing: Original NSA, SA No. 6435; Queue No. AD2-009 to be effective 4/7/2022.

Filed Date: 5/5/22.

Accession Number: 20220505-5142.

Comment Date: 5 p.m. ET 5/26/22.

Docket Numbers: ER22-1800-000.

Applicants: Red Lake Falls Community Hybrid LLC.

Description: Baseline eTariff Filing: Reactive Power Compensation Filing to be effective 7/1/2022.

Filed Date: 5/5/22.

Accession Number: 20220505-5158.

Comment Date: 5 p.m. ET 5/26/22.

Take notice that the Commission received the following foreign utility company status filings:

Docket Numbers: FC22-2-000.

Applicants: BillerudKorsnäs Sweden AB,BillerudKorsnäs Skog & Industri AB.

Description: Self-Certification of Foreign Utility Company Status of BillerudKorsnäs Sweden AB, et. al.

Filed Date: 5/2/22.

Accession Number: 20220502-5401.

Comment Date: 5 p.m. ET 5/23/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2022.
Debbie-Anne A. Reese,
Deputy Secretary.

[FR Doc. 2022-10102 Filed 5-10-22; 8:45 am]

BILLING CODE 6717-01-P